DEPARTMENT OF TRANSPORTATION

Federal Aviation Administration

Notice of Availability of a Record of Decision (ROD) and Order for a Written Re-evaluation of Final Environmental Impact Statement (FEIS) for the Development and Expansion of Runway 9R-27L and Associated Projects at the Fort Lauderdale-Hollywood International Airport

AGENCY: Federal Aviation Administration, U.S. Department of Transportation (DOT).

ACTION: Notice of Availability of a ROD and Order.

SUMMARY: The FAA is issuing this notice to advise the public that it has issued a ROD and Order for a Written Re-evaluation of the FEIS for the Development and Expansion of Runway 9R-27L and Associated Projects at the Fort Lauderdale-Hollywood International Airport, Broward County, Florida. The FEIS for the runway expansion project was issued in June 2008. The FAA issued a ROD for this Federal action in December 2008. In July 2011, FAA approved a Written Re-evaluation and issued a ROD and Order for further refinements resulting from 60-percent design changes to the previously approved runway expansion. Broward County, the airport sponsor, has submitted a request to the FAA for approval of additional design refinements associated with engineering the new runway and taxiway system as construction of the previously approved project continues. These design changes include realignment of the Airport Perimeter Road on the southwest side of the airport, modification of an emergency navigational aid (NAVAID) access road on the east side of the airport, and the design to the NAVAID runway approach lighting system and the associated maintenance bridge. The current ROD and Order approves the engineering and design refinements to the previously approved project disclosed in the written re-evaluation and as shown on the 2011 Airport Layout Plan.

SUPPLEMENTARY INFORMATION: Copies of this ROD and Order and Written Re-evaluation are available for public review at the following locations during normal business hours: Fort Lauderdale-Hollywood International Airport, 2200 SW 45th Street, Suite 101, Telephone 954-359-6978; Federal Aviation Administration Orlando Airports District Office, 5950 Hazeltine National Drive, Suite 400, Orlando, Florida, Telephone (407) 812-6331; Federal Aviation Administration Southern Region Office, 1701 Columbia Avenue, College Park, GA 30337, Telephone (404) 305-6700. The ROD and Order and written re-evaluation will also be available on Broward County's Web site: http://www.broward.org/Airport/Community/Pages/FEIS.aspx. The ROD and Order, and written re-evaluation will also be available for review at the FAA's Web site www.faa.gov.

FOR FURTHER INFORMATION CONTACT: Virginia Lane, Environmental Program Specialist, Federal Aviation Administration, Orlando Airports District Office, 5950 Hazeltine National Drive, Suite 400, Orlando, Florida 32822, Telephone (407) 812-6331 Extension 129.

Issued in Orlando, Florida on February 13, 2014.
Bart Vernace,
Manager, FAA Orlando Airports District Office.

[FR Doc. 2014-03741 Filed 2-21-14; 8:45 am]

BILLING CODE 4910-13-P